DEPARTMENT OF THE INTERIOR

Fish and Wildlife Service

North American Wetlands Conservation Council (Council) Meeting Announcement

AGENCY: Fish and Wildlife Service, Interior.

ACTION: Notice of meeting.

SUMMARY: The Council will meet to select North American Wetlands Conservation Act (NAWCA) proposals for recommendation to the Migratory Bird Conservation Commission.

The meeting is open to the public.

DATES: The meeting will be held on December 3, 2002, at 4 p.m.

ADDRESSES: The meeting will be held in the Mexican State of Quintana Roo. The Council Coordinator is located at U.S. Fish and Wildlife Service, 4401 N. Fairfax Drive, MBSP-4075, Arlington, Virginia 22203.

FOR FURTHER INFORMATION CONTACT: David A. Smith, Council Coordinator, (703) 358-1784 or dbhc@fws.gov.

SUPPLEMENTARY INFORMATION: In accordance with NAWCA (Pub. L. 101-233, 103 Stat. 1968, December 13, 1989, as amended), the State-private-Federal Council meets to consider wetland acquisition, restoration, enhancement and management projects for recommendation to, and final funding approval by, the Migratory Bird Conservation Commission. Proposals require a minimum of 50 percent non-Federal matching funds. The public is welcome to attend the meeting scheduled for December 3, 2002.

Dated: November 20, 2002.
Marshall P. Jones, Jr.,
Acting Director, U.S. Fish and Wildlife Service.

[FR Doc. 02-30296 Filed 11-27-02; 8:45 am]

BILLING CODE 4310-55-P